DEPARTMENT OF THE INTERIOR

Fish and Wildlife Service

[Docket No. FWS-R3-ES-2022-0003; FXES11140300000-223]

Draft Environmental Assessment and Proposed Habitat Conservation Plan Amendment; Receipt of an Application for an Incidental Take Permit Amendment, Fowler Ridge Wind Farm, Benton County, Indiana

AGENCY: Fish and Wildlife Service, Interior.

ACTION: Notice of availability; request for comments and information.

SUMMARY: We, the U.S. Fish and Wildlife Service, have received an application from Fowler Ridge Wind Farm LLC, Fowler Ridge II Wind Farm LLC, Fowler Ridge III Wind Farm LLC, and Fowler Ridge IV Wind Farm LLC, collectively referred to as Fowler Ridge (applicant), to amend an existing incidental take permit (ITP) under the Endangered Species Act, for its Fowler Ridge Wind Farm (project). If approved, the ITP would be extended for an additional 10-year period and would add authorization of incidental take of a threatened species, the northern long-eared bat, to the currently existing authorization to incidentally take the endangered Indiana bat. The applicant has prepared a proposed habitat conservation plan amendment that describes the actions and measures that the applicant would implement to avoid, minimize, and mitigate incidental take of the Indiana bat and northern long-eared bat. We also announce the availability of a draft environmental assessment, which has been prepared in response to the permit application in accordance with the requirements of the National Environmental Policy Act. We request public comment on the application and associated documents.

DATES: We will accept comments received or postmarked on or before June 8, 2022.

ADDRESSES:

Document availability: Electronic copies of the documents this notice announces, along with public comments received, will be available online in Docket No. FWS-R3-ES-2022-0003 at http://www.regulations.gov.

Comment submission: In your comment, please specify whether your comment addresses the proposed HCP, draft EA, or any combination of the aforementioned documents, or other supporting documents. You may submit written comments by one of the following methods:

• Online: https://www.regulations.gov. Search for and submit comments on Docket No. FWS-R3-ES-2022-0003.

• By hard copy: Submit comments by U.S. mail to Public Comments Processing, Attn: Docket No. FWS-R3-ES-2022-0003; U.S. Fish and Wildlife Service; 5275 Leesburg Pike, MS: PRB/3W; Falls Church, VA 22041-3803.

FOR FURTHER INFORMATION CONTACT: Scott Pruitt, Field Supervisor, Indiana Ecological Services Field Office, by email at scott_pruitt@fws.gov, or by telephone at 812-334-4261, extension 214; or Andrew Horton, Regional HCP Coordinator, Interior Region 3, by email at andrew_horton@fws.gov, or by telephone at 612-713-5337.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Section 9 of the Endangered Species Act of 1973, as amended (ESA; 16 U.S.C. 1531 et seq.), and its implementing regulations prohibit the “take” of animal species listed as endangered or threatened. “Take” is defined under the ESA as to “harass, harm, pursue, hunt, shoot, wound, kill, trap, capture, or collect [listed animal species], or to attempt to engage in such conduct” (16 U.S.C. 1538). However, under section 10(a) of the ESA, we may issue permits to authorize incidental take of listed species. “Incidental take” is defined by the ESA as take that is incidental to, and not the purpose of, carrying out an otherwise lawful activity. Regulations governing incidental take permits for endangered and threatened species, respectively, are found in the Code of Federal Regulations (CFR) at 50 CFR 17.22 and 50 CFR 17.32.

Applicant's Proposed Project

The applicant requests to amend their current 21-year ITP (TE95012A-0). The proposed HCP amendment, if approved, would extend the current permit term by 10 years. Because of the time already elapsed since the original issuance of the ITP, this extension would result in an amended ITP with a total 23-year permit term (2022-2044). In addition, the HCP amendment would add authorization to incidentally take the federally threatened northern long-eared bat (Myotis septentrionalis) to the ITP, and would in effect increase the allowable take of the federally endangered Indiana bat (Myotis sodalis), due to the permit term extension. The applicant determined that take is reasonably certain to occur incidental to operation of the 420 wind turbines at the project. The proposed conservation strategy in the applicant's proposed HCP amendment is designed to avoid, minimize, and mitigate the impacts of the covered activity on the covered species. The biological goals and objectives are to minimize potential take of Indiana bats and northern long-eared bats through on-site minimization measures and to provide habitat conservation measures for Indiana bats and northern long-eared bats to offset any impacts from operations of the project. The HCP amendment provides on-site avoidance and minimization measures, which include turbine operational adjustments. The estimated level of take from the project is 120 northern long-eared bats over the 24-year project duration and an additional 151 Indiana bats (above the 184 Indiana bats already authorized in the original ITP) due to the 10-year extension. To offset the impacts of the taking of Indiana bats and northern long-eared bats, the applicant proposes to protect known maternity colony habitat.

National Environmental Policy Act

The issuance of an ITP amendment is a Federal action that triggers the need for compliance with NEPA. We prepared a draft EA that analyzes the environmental impacts on the human environment resulting from three alternatives: A no-action alternative, the applicants' proposed alternative, and an alternative that provides coverage of only the northern long-eared bat.

Next Steps

The Service will evaluate the permit amendment application and the comments received to determine whether the application meets the requirements of section 10(a) of the ESA. We will also conduct an intra-Service consultation pursuant to section 7 of the ESA to evaluate the effects of the proposed take. After considering the above findings, we will determine whether the permit issuance criteria of section 10(a)(l)(B) of the ESA have been met. If met, the Service will issue the requested ITP to the applicant.

Request for Public Comments

The Service invites comments and suggestions from all interested parties during a 30-day public comment period (see DATES). In particular, information and comments regarding the following topics are requested:

1. The effects that implementation of any alternative could have on the human environment;

2. Whether or not the significance of the impact on various aspects of the human environment has been adequately analyzed;

3. Any threats to the Indiana bat and the northern long-eared bat that may influence their populations over the life of the ITP that are not addressed in the proposed HCP or EA; and

4. Any other information pertinent to evaluating the effects of the proposed action on the human environment.

Availability of Public Comments

You may submit comments by one of the methods shown under ADDRESSES. We will post on https://regulations.gov all public comments and information received electronically or via hardcopy. All comments received, including names and addresses, will become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22) and the NEPA (42 U.S.C. 4371 et seq.) and its implementing regulations (40 CFR 1506.6; 43 CFR part 46).

Sean Marsan,
Acting Assistant Regional Director, Ecological Services.

[FR Doc. 2022-09836 Filed 5-6-22; 8:45 am]

BILLING CODE 4333-15-P